DEPARTMENT OF ENERGY

Federal Energy Regulatory Commission

[Docket No. CP22-138-000]

Northern Natural Gas Company; Notice of Intent To Prepare an Environmental Impact Statement for the Proposed Northern Lights 2023 Expansion Project, Request for Comments on Environmental Issues, and Schedule for Environmental Review

The staff of the Federal Energy Regulatory Commission (FERC or Commission) will prepare an environmental impact statement (EIS) that will discuss the environmental impacts of the Northern Lights 2023 Expansion Project (Project) involving construction and operation of facilities by Northern Natural Gas Company (Northern) in Freeborn, Scott, Sherburne, Stearns, and Washington Counties, Minnesota, and Monroe County, Wisconsin. The Commission will use this EIS in its decision-making process to determine whether the Project is in the public convenience and necessity. The schedule for preparation of the EIS is discussed in the Schedule for Environmental Review section of this notice.

As part of the National Environmental Policy Act (NEPA) review process, the Commission takes into account concerns the public may have about proposals and the environmental impacts that could result whenever it considers the issuance of a Certificate of Public Convenience and Necessity. This gathering of public input is referred to as “scoping.” By notice issued on May 17, 2022 in Docket No. CP22-138-000, the Commission opened a scoping period to solicit comments. Subsequent to issuance of that notice, Commission staff has determined that it will prepare an EIS for the Project. The EIS will address the concerns raised during the initial scoping process as well as comments received in response to this notice.

By this notice, the Commission requests public comments on the scope of issues to address in the environmental document, including comments on potential alternatives and impacts, and any relevant information, studies, or analyses of any kind concerning impacts affecting the quality of the human environment. To ensure that your comments are timely and properly recorded, please submit your comments so that the Commission receives them in Washington, DC on or before 5:00 p.m. Eastern Time on August 29, 2022. Comments may be submitted in written form. Further details on how to submit comments are provided in the Public Participation section of this notice.

As mentioned above, the Commission opened a scoping period which expired on June 17, 2022; however, Commission staff continued to accept comments after the comment period closed. All substantive written and oral comments provided will be addressed in the EIS. Therefore, if you submitted comments on this Project to the Commission during the previous scoping period, you do not need to file those comments again.

If you are a landowner receiving this notice, a pipeline company representative may contact you about the acquisition of an easement to construct, operate, and maintain the proposed facilities. The company would seek to negotiate a mutually acceptable easement agreement. You are not required to enter into an agreement. However, if the Commission approves the Project, the Natural Gas Act conveys the right of eminent domain to the company. Therefore, if you and the company do not reach an easement agreement, the pipeline company could initiate condemnation proceedings in court. In such instances, compensation would be determined by a judge in accordance with state law. The Commission does not grant, exercise, or oversee the exercise of eminent domain authority. The courts have exclusive authority to handle eminent domain cases; the Commission has no jurisdiction over these matters.

Northern provided landowners with a fact sheet prepared by the FERC entitled “An Interstate Natural Gas Facility On My Land? What Do I Need To Know?” which addresses typically asked questions, including the use of eminent domain and how to participate in the Commission's proceedings. This fact sheet along with other landowner topics of interest are available for viewing on the FERC website (www.ferc.gov) under the Natural Gas Questions or Landowner Topics link.

Public Participation

There are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket number (CP22-138-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Additionally, the Commission offers a free service called eSubscription. This service provides automatic notification of filings made to subscribed dockets, document summaries, and direct links to the documents. Go to https://www.ferc.gov/ferc-online/overview to register for eSubscription.

Summary of the Proposed Project, the Project Purpose and Need, and Expected Impacts

According to Northern, the Project would provide for incremental winter firm service of 44,222 dekatherms per day (Dth/day) serving residential, commercial, and industrial customer market growth in Northern's Market Area and 6,667 Dth/day of additional firm service that would allow a shipper enhanced reliability and flexibility in scheduling their transportation capacity.

The Project consists of the following facilities:

• a 2.79-mile extension of 36-inch-diameter Ventura North E-Line, in Freeborn County, Minnesota;

• a 1.07-mile, 30-inch-diameter loop ¹ of 20-inch-diameter Elk River 1st and 2nd Branch Lines, in Washington County, Minnesota (Elk River 3rd Branch Line);

¹ A pipeline loop is a segment of pipe constructed parallel to an existing pipeline to increase capacity.

• a 1.14-mile extension of 24-inch-diameter Willmar D Branch Line, in Scott County, Minnesota;

• a 2.48-mile extension of 8-inch-diameter Princeton Tie-Over Loop, in Sherburne County, Minnesota;

• a 2.01-mile loop of 4-inch-diameter Paynesville Branch Line, in Stearns County, Minnesota (Paynesville 2nd Branch Line);

• a 0.34-mile extension of 8-inch-diameter Tomah branch line loop, in Monroe County, Wisconsin; and

• aboveground facilities including one new pig ² launcher, four new valve settings, replacement of valves and piping inside four facilities, removal of three valve settings, and associated piping.

² A “pig” is a tool that the pipeline company inserts into and pushes through the pipeline for cleaning the pipeline, conducting internal inspections, or other purposes.

The general location of the Project facilities is shown in appendix 1.³

³ The appendices referenced in this notice will not appear in the Federal Register. Copies of the appendices were sent to all those receiving this notice in the mail and are available at www.ferc.gov using the link called “eLibrary”. For instructions on connecting to eLibrary, refer to the last page of this notice. At this time, the Commission has suspended access to the Commission's Public Reference Room due to the proclamation declaring a National Emergency concerning the Novel Coronavirus Disease (COVID-19), issued by the President on March 13, 2020. For assistance, contact FERC at FERCOnlineSupport@ferc.gov or call toll free, (886) 208-3676 or TTY (202) 502-8659.

Based on the environmental information provided by Northern, construction of the proposed facilities would disturb about 251.7 acres of land for the aboveground facilities and the pipeline. Following construction, Northern would maintain about 51.9 acres for operation of the Project facilities; the remaining acreage would be restored and could revert to former uses. About 12.4 percent of the construction footprint would overlap with easements for existing Northern facilities.

Based on an initial review of Northern's proposal and public comments received during scoping, Commission staff have identified several expected impacts that deserve attention in the EIS. The Project would impact three waterbodies and about 0.5 acre of wetland. Construction of the Project would have impacts on noise, traffic, and road conditions. In response to the Notice of Scoping, the Commission received multiple comments. Several were supportive of the Project. Others requested that the EIS discuss and provide appropriate details regarding the Project description, purpose and need, alternatives, affected environment, wetlands, surface water, groundwater, air quality, climate change and greenhouse gas emissions, community, social and economic impacts, environmental justice, pollinator habitat, noxious weeds, and noise. Minnesota state agencies requested that the EIS discuss potential impacts on state listed species, calcareous fens, soil compaction, and wellhead protection areas and discussion of appropriate seed mixes, utility crossing licenses, dust abatement, road crossing methods, traffic control, access points, and impacts on highway drainage, vegetation, and other utilities.

The NEPA Process and the EIS

The EIS issued by the Commission will discuss impacts that could occur as a result of the construction and operation of the proposed Project under the relevant general resource areas:

• geology and soils;

• water resources and wetlands;

• vegetation and wildlife;

• threatened and endangered species;

• cultural resources;

• land use;

• socioeconomics;

• environmental justice;

• air quality and noise;

• reliability and safety; and

• cumulative impacts.

Commission staff will also make recommendations on how to lessen or avoid impacts on the various resource areas. Your comments will help Commission staff focus its analysis on the issues that may have a significant effect on the human environment.

The EIS will present Commission staff's independent analysis of the issues. Staff will prepare a draft EIS which will be issued for public comment. Commission staff will consider all timely comments received during the comment period on the draft EIS and revise the document, as necessary, before issuing a final EIS. Any draft and final EIS will be available in electronic format in the public record through eLibrary ⁴ and the Commission's natural gas environmental documents web page (https://www.ferc.gov/industries-data/natural-gas/environment/environmental-documents). If eSubscribed, you will receive instant email notification when the environmental document is issued.

⁴ For instructions on connecting to eLibrary, refer to the last page of this notice.

Alternatives Under Consideration

The EIS will evaluate reasonable alternatives that are technically and economically feasible and meet the purpose and need for the proposed action.⁵ Alternatives currently under consideration include:

⁵ 40 CFR 1508.1(z).

• the no-action alternative, meaning the Project is not implemented; and

• minor route deviations for Ventura North E-Line, Elk River 3rd Branch Line, Willmar D Branch Line, Princeton Tie-Over Loop, and Paynesville 2nd Branch Line.

With this notice, the Commission requests specific comments regarding any additional potential alternatives to the proposed action or segments of the proposed action. Please focus your comments on reasonable alternatives (including alternative facility sites and pipeline routes) that meet the Project objectives, are technically and economically feasible, and avoid or lessen environmental impact.

Consultation Under Section 106 of the National Historic Preservation Act

In accordance with the Advisory Council on Historic Preservation's implementing regulations for section 106 of the National Historic Preservation Act, the Commission initiated section 106 consultation for the Project in the notice issued on May 17, 2022 with the applicable State Historic Preservation Office(s), and other government agencies, interested Indian tribes, and the public to solicit their views and concerns regarding the Project's potential effects on historic properties.⁶ This notice is a continuation of section 106 consultation for the Project. The Project EIS will document findings on the impacts on historic properties and summarize the status of consultations under section 106.

⁶ The Advisory Council on Historic Preservation's regulations are at Title 36, Code of Federal Regulations, Part 800. Those regulations define historic properties as any prehistoric or historic district, site, building, structure, or object included in or eligible for inclusion in the National Register of Historic Places.

Schedule for Environmental Review

On April 11, 2022 the Commission issued its Notice of Application for the Project. Among other things, that notice alerted other agencies issuing federal authorizations of the requirement to complete all necessary reviews and to reach a final decision on the request for a federal authorization within 90 days of the date of issuance of the Commission staff's final EIS for the Project. This notice identifies the Commission staff's planned schedule for completion of the final EIS for the Project, which is based on an issuance of the draft EIS in October 2022.

Issuance of Notice of Availability of the final EIS March 10, 2023

90-day Federal Authorization Decision Deadline ⁷ June 8, 2023

⁷ The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary for the final EIS, an additional notice will be provided so that the relevant agencies are kept informed of the Project's progress.

Permits and Authorizations

The table below lists the anticipated permits and authorizations for the Project required under federal law. This list may not be all-inclusive and does not preclude any permit or authorization if it is not listed here. Agencies with jurisdiction by law and/or special expertise may formally cooperate in the preparation of the Commission's EIS and may adopt the EIS to satisfy its NEPA responsibilities related to this Project. Agencies that would like to request cooperating agency status should follow the instructions for filing comments provided under the Public Participation section of this notice.

Agency | Permit
Federal Energy Regulatory Commission | Certificate of Public Convenience and Necessity.
U.S. Army Corps of Engineers—St. Paul District | Clean Water Act Section 404—Dredge and Fill Permit.
U.S. Fish and Wildlife Service—Twin Cities Field Office | Endangered Species Act (ESA) Consultation, Migratory Bird Treaty Act (MBTA) Coordination; Bald and Golden Eagle Protection Act (BGEPA) Consultation.
Minnesota Pollution Control Agency | Section 401 Water Quality Certification.
Minnesota State Historic Preservation Office (SHPO) | National Historic Preservation Act (NHPA), Section 106 Consultation.
Wisconsin SHPO | NHPA, Section 106 Consultation.

Environmental Mailing List

This notice is being sent to the Commission's current environmental mailing list for the Project which includes federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project and includes a mailing address with their comments. Commission staff will update the environmental mailing list as the analysis proceeds to ensure that Commission notices related to this environmental review are sent to all individuals, organizations, and government entities interested in and/or potentially affected by the proposed Project. State and local government representatives should notify their constituents of this proposed project and encourage them to comment on their areas of concern.

If you need to make changes to your name/address, or if you would like to remove your name from the mailing list, please complete one of the following steps:

(1) Send an email to GasProjectAddressChange@ferc.gov stating your request. You must include the docket number CP22-138-000 in your request. If you are requesting a change to your address, please be sure to include your name and the correct address. If you are requesting to delete your address from the mailing list, please include your name and address as it appeared on this notice. This email address is unable to accept comments.

OR

(2) Return the attached “Mailing List Update Form” (appendix 2).

Additional Information

Additional information about the Project is available from the Commission's Office of External Affairs, at (866) 208-FERC, or on the FERC website at www.ferc.gov using the eLibrary link. Click on the eLibrary link, click on “General Search” and enter the docket number in the “Docket Number” field, excluding the last three digits (i.e., CP22-138). Be sure you have selected an appropriate date range. For assistance, please contact FERC Online Support at FercOnlineSupport@ferc.gov or (866) 208-3676, or for TTY, contact (202) 502-8659. The eLibrary link also provides access to the texts of all formal documents issued by the Commission, such as orders, notices, and rulemakings. Public sessions or site visits will be posted on the Commission's calendar located at https://www.ferc.gov/news-events/events along with other related information.

Dated: July 28, 2022.
Kimberly D. Bose,
Secretary.

[FR Doc. 2022-16589 Filed 8-2-22; 8:45 am]

BILLING CODE 6717-01-P